DEPARTMENT OF TRANSPORTATION

Federal Railroad Administration

Petition for Waivers of Compliance

In accordance with Title 49 Code of Federal Regulations (CFR), Section 211.41, notice is hereby given that the Federal Railroad Administration (FRA) received a request for waiver of certain requirements of the Federal railroad safety regulations. The individual petition is described below, including the party seeking relief, the regulatory provisions involved, and the nature of the relief being sought.

The Port Authority Trans-Hudson Corporation

[FRA Waiver Petition No. FRA-2000-7411]

The Port Authority Trans-Hudson Corporation (PATH) seeks a permanent waiver of compliance from certain requirements of 49 CFR, Part 239, Passenger Train Emergency Preparedness. Specifically, PATH requests relief from the emergency equipment requirements in § 239.101(a)(6)(i) that the fire extinguisher and pry-bar be accessible to the riding public for use in the event of an emergency situation. PATH argues that its practice of securing the fire extinguisher and pry-bar away from public access is in the public's interest, and contends that public safety is enhanced by restricting access only to crew members. PATH requests that FRA waive the public access requirement and allow PATH to continue to maintain the emergency equipment in a secure manner without permitting the riding public to use it during an emergency. In support of its request, PATH states that in times of emergency, the public address system can facilitate communication to train crew members, who would then unlock the lockers where the fire extinguisher and pry-bar are stored. PATH also notes that the locking of these items of emergency equipment can protect the public from harm, since the equipment would not be missing due to cases of vandalism or theft, and would therefore be in its proper location at the time of an emergency.

PATH also seeks a permanent waiver of compliance from certain requirements of 49 CFR Part 229, Locomotive Safety Standards. Specifically, PATH requests relief from the requirements of § 229.7, Prohibited acts, which mandates that a locomotive and its appurtenances must be in proper working condition and safe to operate in the service to which assigned, and from § 229.9, Movement of non-complying locomotives, which set forth the conditions under which a railroad may move a non-complying locomotive. PATH seeks to lessen the impact of dead cars (MU type locomotives) in its operation. PATH proposes to operate one dead car (MU type locomotive car) per consist of not less than seven cars, up to 24 hours prior to removing the car from service for the purpose of repair. PATH states that it would not allow a dead car to operate in the lead as the controlling car of the movement, and that operating crews of such trains would be notified in writing about the presence of the defective car prior to the movement of the train.

Interested parties are invited to participate in these proceedings by submitting written reviews, data, or comments. If any interested party desires the opportunity for oral comment, FRA must be notified in writing before the end of the comment period, and the party must specify the basis for the request. FRA will then determine whether to schedule a public hearing in connection with these proceedings. See 49 CFR 211.25.

All communications concerning these proceedings should identify the appropriate docket number (e.g., Waiver Petition Docket Number FRA-2000-7411) and must be submitted to the Docket Clerk, DOT Docket Management Facility, Room PL-401 (Plaza Level), 400 Seventh Street, SW., Washington, DC 20590. All documents in the public docket, including PATH's waiver request, are also available for inspection and copying on the Internet at the docket facility's web site at http://dms.dot.gov. Communications received within 45 days from the date of this notice will be considered by FRA before final action is taken. Comments received after that date will be considered as far as practicable. All written communications concerning these proceedings are available for examination during regular business hours (9:00 a.m.-5 p.m.) at the above facility.

Issued in Washington, D.C., on February 22, 2001.
Grady C. Cothen, Jr.,
Deputy Associate Administrator for Safety Standards and Program Development.

[FR Doc. 01-5405 Filed 3-5-01; 8:45 am]

BILLING CODE 4910-06-P